DEPARTMENT OF ENERGY

Federal Energy Regulatory Commission

Combined Notice of Filings #1

June 10, 2010.

Take notice that the Commission received the following electric rate filings:

Docket Numbers: ER07-1372-018; ER09-1126-002.

Applicants: Midwest Independent Transmission System Operator, Inc.

Description: Midwest Independent Transmission System Operator, Inc submits revisions to the Open Access Transmission and Operating Reserve Markets Tariff.

Filed Date: 06/09/2010.

Accession Number: 20100610-0201.

Comment Date: 5 p.m. Eastern Time on Wednesday, June 30, 2010.

Docket Numbers: ER10-183-002.

Applicants: Otter Tail Power Company.

Description: Otter Tail Power Company submits Open Access Transmission, Energy, and Operating Reserve markets Tariff.

Filed Date: 06/09/2010.

Accession Number: 20100610-0205.

Comment Date: 5 p.m. Eastern Time on Wednesday, June 30, 2010.

Docket Numbers: ER10-863-001.

Applicants: Midwest Independent Transmission System Operator, Inc.

Description: Midwest Independent Transmission System Operator, Inc submits proposed revisions to the Agreement to Transmission Facilities Owners etc.

Filed Date: 06/09/2010.

Accession Number: 20100610-0202.

Comment Date: 5 p.m. Eastern Time on Wednesday, June 30, 2010.

Docket Numbers: ER10-1410-000.

Applicants: Virginia Electric and Power Company.

Description: Virginia Electric and Power Company submits its baseline tariff filing of an amended and restated market-based sales tariff etc., to be effective 6/30/2010.

Filed Date: 06/10/2010.

Accession Number: 20100610-5000.

Comment Date: 5 p.m. Eastern Time on Thursday, July 01, 2010.

Docket Numbers: ER10-1411-000.

Applicants: PacifiCorp.

Description: PacifiCorp submits Trust Agreement with Basin Electric Power Cooperative to be designated as their First Revised Rate Schedule FERC No 136.

Filed Date: 06/09/2010.

Accession Number: 20100610-0204.

Comment Date: 5 p.m. Eastern Time on Wednesday, June 30, 2010.

Docket Numbers: ER10-1412-000.

Applicants: Allegheny Power.

Description: Allegheny Power submits notice of cancellation and four revised service agreement cover sheets to cancel interconnection and operating agreements with Allegheny Energy Supply Company, LLC.

Filed Date: 06/09/2010.

Accession Number: 20100610-0203.

Comment Date: 5 p.m. Eastern Time on Wednesday, June 30, 2010.

Docket Numbers: ER10-1413-000.

Applicants: Midwest Independent System Operator, Inc.

Description: Midwest Independent System Operator, Inc submits an executed Amended and Restated Interconnection Agreement.

Filed Date: 06/09/2010.

Accession Number: 20100610-0207.

Comment Date: 5 p.m. Eastern Time on Wednesday, June 30, 2010.

Docket Numbers: ER10-1414-000.

Applicants: Auburndale Power Partners, Limited Partnership.

Description: Auburndale Power Partners, Limited Partnership submits tariff filing per 35.12: Auburndale, FERC Electric Tariff to be effective 6/10/2010.

Filed Date: 06/10/2010.

Accession Number: 20100610-5019.

Comment Date: 5 p.m. Eastern Time on Thursday, July 01, 2010.

Docket Numbers: ER10-1415-000.

Applicants: Idaho Power Company.

Description: Idaho Power Company submits Notice of Cancellation of Rate Schedules.

Filed Date: 06/10/2010.

Accession Number: 20100610-0208.

Comment Date: 5 p.m. Eastern Time on Thursday, July 01, 2010.

Docket Numbers: ER10-1416-000.

Applicants: Pasco Cogen, Ltd.

Description: Pasco Cogen, Ltd. submits tariff filing per 35.12: Pasco, FERC Electric Tariff to be effective 6/10/2010.

Filed Date: 06/10/2010.

Accession Number: 20100610-5030.

Comment Date: 5 p.m. Eastern Time on Thursday, July 01, 2010.

Docket Numbers: ER10-1417-000.

Applicants: Orange and Rockland Utilities, Inc.

Description: Orange and Rockland Utilities, Inc. submits tariff filing per 35: Re-filing of O&R OATT baseline to be effective 6/10/2010.

Filed Date: 06/10/2010.

Accession Number: 20100610-5044.

Comment Date: 5 p.m. Eastern Time on Thursday, July 01, 2010.

Docket Numbers: ER10-1418-000.

Applicants: Exelon Generation Company, LLC.

Description: Exelon Generation Company, LLC submits tariff filing per 35.12: Rate Schedule 20 to be effective 6/1/2011.

Filed Date: 06/10/2010.

Accession Number: 20100610-5059.

Comment Date: 5 p.m. Eastern Time on Thursday, July 01, 2010.

Docket Numbers: ER10-1419-000.

Applicants: Citadel Energy Strategies LLC.

Description: Citadel Energy Strategies LLC submits tariff filing per 35.12: Baseline Tariff Filing to be effective 6/10/2010 under ER10-01419-000 Filing Type: 360.

Filed Date: 06/10/2010.

Accession Number: 20100610-5077.

Comment Date: 5 p.m. Eastern Time on Thursday, July 01, 2010.

Take notice that the Commission received the following electric reliability filings:

Docket Numbers: RR10-11-000.

Applicants: North American Electric Reliability Corporation.

Description: Petition of North American Electric Reliability Corporation for Approval of Revised Pro Forma Delegation Agreement, Revised Delegation Agreements with the Eight Regional Entities, and Amendments to the NERC Rules of Procedure.

Filed Date: 06/09/2010.

Accession Number: 20100609-5138.

Comment Date: 5 p.m. Eastern Time on Friday, July 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-14853 Filed 6-18-10; 8:45 am]

BILLING CODE 6717-01-P